DEPARTMENT OF DEFENSE

Department of the Army

[Docket ID: USA-2011-0022]

Privacy Act of 1974; System of Records

AGENCY: Department of the Army, Department of Defense (DoD).

ACTION: Notice to add a system of records.

SUMMARY: The Department of the Army proposes to add a system of records to its inventory of record systems subject to the Privacy Act of 1974 (5 U.S.C. 552a), as amended.

DATES: This proposed action would be effective without further notice on October 6, 2011 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160. Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905, or by phone at (703) 428-6185.

SUPPLEMENTARY INFORMATION: The Department of the Army notices for systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on August 29, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: August 29, 2011.
Aaron Siegel,
Alternate OSD Federal Register Liaison Officer, Department of Defense.

A0621-1a

System name:

Student Loan Repayment Program Records.

System location:

U.S. Army Human Resources Command, Education Incentives Branch, 1600 Spearhead Division Avenue, Fort Knox, KY 40122-5408.

Categories of individuals covered by the system:

Current active duty, Army Reserves and National Guard or former members who participated in the Student Loan Repayment Program.

Categories of records in the system:

Personal: Individuals name, address, date of birth, rank and Social Security Number (SSN); Military Occupational Specialty (MOS).

Student Loan: Qualifying student loan name, amount of loan, date of loan transaction, student education loan number assigned by the lenders, lender's name, address and tax identification number.

Servicing Office: Servicing office's name, address, tax identification number and student loan approval or disapproval; verification of loan eligibility; recommendation for participation; and employee service agreement/contract.

Education: Educational and military training achievements, course attendance and completion records; tuition assistance documents; counseling records; academic and diagnostic tests which measure educational level and/or needs including recommendations of American Council on Education (ACE). A composite of course descriptors and scores recorded in a transcript registry for each soldier who volunteers for educational courses and/or programs.

Authority for maintenance of the system:

10 U.S.C. 3013, Secretary of the Army; 10 U.S.C. 4302, Enlisted Members of Army: Schools; 10 U.S.C. 1606, Educational Assistance for Members of the Selected Reserve; Army Regulation 621-5, Army Continuing Education System; Army Regulations 621-202, Education, Army Educational Incentives and Entitlements and Student Loan Repayments; Army Regulation 601-210, Regular Army and Army Reserve Enlistment Program; and E.O. 9397 (SSN), as amended.

Purpose(s):

To determine qualifications of active Army, Army Reserves, and Army National Guard personnel or former members, who participated in the Student Loan Repayment Program for education incentives. These records will also identify which members are to repay incentives if they did not complete requirements at educational institutions.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD ‘Blanket Routine Uses' set forth at the beginning of the Army's compilation of systems of records notices also apply to this system.

To the Department of Labor, Bureau of Apprenticeship and Training for individuals enrolled in an Army Apprenticeship Program.

To the Treasury Department to provide information on check issues and electronic funds transfers.

To the Department of Veterans Affairs to provide payroll information for members who participated in making contributions to the Veterans Education Assistance Program (VEAP), and the Montgomery GI Bill Program.

Policies and practices for storing, retrieving, accessing, retaining, and disposing of records in the system:

Storage:

Paper records and electronic storage media.

Retrievability:

By individual's name, Social Security Number (SSN), and fiscal year.

Safeguards:

Access to records is restricted to those users who have an official need-to-know, and who are properly trained and screened. In addition, the system will be a controlled system with passwords, and Common Access Card (CAC) governing access to data. All users are required to take Information Assurance and Privacy training. Electronic records are maintained within secured buildings in areas accessible only to persons having an official need to know, and who are properly trained and screened. Records are secured in locked or guarded buildings, locked offices, or locked cabinets during non-duty hours.

Retention and disposal:

Disposition pending. Treat records as permanent until the National Archives and Records Administration approves the Army's retention and disposition schedule.

System manager(s) and address:

Deputy Chief of Staff, G-1, 300 Army Pentagon, Washington, DC 20310-0300 and Commander, U.S. Army Human Resources Command, Education Incentives Branch, 1600 Spearhead Division Avenue, Fort Knox, KY 40122-5408.

Notification procedure:

Individuals seeking to determine whether information about themselves is contained in this system should address written inquiries to the Commander, U.S. Army Human Resources Command, Education Incentives Branch, 1600 Spearhead Division Avenue, Fort Knox, KY 40122-5408.

For verification purposes, individual should provide their full name, SSN, any details which may assist in locating records, and their signature. In addition, the requester must provide a notarized statement or an unsworn declaration made in accordance with 28 U.S.C. 1746, in the following format:

If executed outside the United States:

`I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system should address written inquiries to the Commander, U.S. Army Human Resources Command, Education Incentives Branch, 1600 Spearhead Division Avenue, Fort Knox, KY 40122-5408.

For verification purposes, individual should provide their full name, SSN, any details which may assist in locating records, and their signature. In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Army's rules for accessing records, and for contesting contents and appealing initial agency determinations are published in the Army Regulation 340-21; 32 CFR part 505; or may be obtained from the system manager.

Record source categories:

From the individual and Defense Enrollment Eligibility Reporting System (DEERS) database.

Exemptions claimed for the system:

None.

[FR Doc. 2011-22612 Filed 9-2-11; 8:45 am]

BILLING CODE 5001-06-P